DEPARTMENT OF TRANSPORTATION

Federal Aviation Administration

Notice of Availability of Draft Air Tour Management Plans and Draft Environmental Assessments (EA) and Public Meetings; Correction

AGENCY: Federal Aviation Administration (FAA), Department of Transportation (DOT).

ACTION: Notice; correction.

SUMMARY: The Federal Aviation Administration, in cooperation with the National Park Service, published a document in the Federal Register on May 18, 2023, regarding the development of Air Tour Management Plans for Haleakalā National Park, Hawai‘i Volcanoes National Park, Mount Rushmore National Memorial, and Badlands National Park pursuant to the National Parks Air Tour Management Act of 2000 and its implementing regulations. The document contained incorrect dates regarding the comment deadlines on the draft ATMPs and draft EAs.

FOR FURTHER INFORMATION CONTACT: Sandra Fox, (202) 267-0928, Sandra.Y.Fox@faa.gov.

SUPPLEMENTARY INFORMATION:

Correction

In the Federal Register of May 18, 2023, in FR Doc. 2023-10622, on page 31840, in the third column, correct the DATES caption to read: COMMENT PERIOD DATES: For Haleakalā and Hawai‘i Volcanoes National Parks, comments must be received on or before June 20, 2023, by 8:00 p.m. HST. For Mount Rushmore National Memorial and Badlands National Park, comments must be received on or before June 20, 2023, by 11:59 MDT.

Issued in Washington, DC, on May 18, 2023.
Sandra Fox,
Environmental Protection Specialist, FAA Office of Environment & Energy.

[FR Doc. 2023-10975 Filed 5-22-23; 8:45 am]

BILLING CODE 4910-13-P